DEPARTMENT OF HOMELAND SECURITY

Coast Guard

46 CFR Parts 30 and 150

[Docket No. USCG-2022-0327]

RIN 1625-AC73

2022 Liquid Chemical Categorization Updates

Correction

In rule document 2023-25026, appearing on pages 81184 through 81234 in the issue of Tuesday, November 21, 2023, make the following corrections:

§ 30.25-1 Cargoes carried in vessels certificated under the rules of this subchapter. [Corrrected]

1. On page 81188, in the second column, on the fourth line from the bottom, “(≤75%)” should read “(>75%)”.

2. On the same page, in the same column, on the third and second lines from the bottom, “(≤85%)” should read “(>85%)”.

3. On page 81189, in the table, in the eighteenth row, “(≤75%)” should read “(>75%)”.

4. On the same page, in the same table, in the nineteenth row, “(≤85%)” should read “(>85%)”.

5. On the same page, in the same table, following the twenty-fourth row, insert a new row reading “* * * * * * *”.

6. On the same page, in the same table, in the twenty-sixth row, “Long-chain alkylphenol (C18-C30) https://fedimpact.com/request-to-meet/” should read “Long-chain alkylphenol (C18-C30)”.

Table 2 to Part 150 Grouping of Cargoes [Corrected]

7. On page 81225, in the table, in the twenty-fourth row, “(<25% but <99% by volume)” should read “(>25% but <99% by volume)”.

[FR Doc. C1-2023-25026 Filed 12-28-23; 8:45 am]

BILLING CODE 0099-10-D